INTERNATIONAL TRADE COMMISSION

[Investigation No. 337-TA-725]

In the Matter of Certain Caskets; Notice of Commission Issuance of a Limited Exclusion Order Against Infringing Products of Respondent Found in Default; Termination of Investigation

AGENCY: U.S. International Trade Commission.

ACTION: Notice.

SUMMARY: Notice is hereby given that the U.S. International Trade Commission has issued a limited exclusion order against infringing products of Ataudes Aguilares, S. de R.L. de C.V. of Guadalajara, Mexico (“Ataudes Aguilares”), which was previously found in default, and has terminated the above-captioned investigation under section 337 of the Tariff Act of 1930, as amended (19 U.S.C. 1337).

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 8, 2010, based on a complaint filed by Batesville Services, Inc. of Batesville, Indiana (“Batesville”). 75 FR 16837-38 (July 8, 2010). The complaint alleges violations of section 337 of the Tariff Act of 1930, as amended, 19 U.S.C. 1337, in the importation into the United States, the sale for importation, and the sale within the United States after importation of certain caskets by reason of infringement of certain claims of U.S. Patent Nos. 5,611,124; 5,727,291; 6,836,936; 6,976,294; and 7,340,810. The Commission's notice of investigation named Ataudes Aguilares as the lone respondent.

On August 12, 2010, Batesville moved, pursuant to Commission Rule 210.16(b) (19 CFR 210.16(b)), for an order to show cause why Ataudes Aguilares should not be found in default for failure to respond to the Complaint and Notice of Investigation and for a finding of default upon the failure to show cause. On August 19, 2010, the Commission investigative attorney (“IA”) filed a response in support of the motion. The presiding administrative law judge (“ALJ”) issued the requested order, instructing Ataudes Aguilares to show cause, no later than the close of business on September 21, 2010, why it should not be found in default. Order No. 4 (Aug. 31, 2010). No response to Order No. 4 was filed, and the ALJ subsequently issued an initial determination (“ID”) finding Ataudes Aguilares in default. Order No. 5 (Sept. 24, 2010). The Commission determined not to review the ID and issued a Notice requesting briefing from interested parties on remedy, the public interest, and bonding. 75 FR 65379-80 (Oct. 22, 2010).

The IA and Batesville submitted briefing responsive to the Commission's request on November 3 and 4, 2010, respectively. Each proposed a limited exclusion order directed to Ataudes Aguilares's accused products and recommended allowing entry under a bond of 100 percent of the entered value during the period of Presidential review.

The Commission found that the statutory requirements of section 337(g)(1)(A)-(E) (19 U.S.C. 1337(g)(1)(A)-(E)) were met with respect to the defaulting respondent. Accordingly, pursuant to section 337(g)(1) (19 U.S.C. 1337(g)(1)) and Commission rule 210.16(c) (19 CFR 210.16(c)), the Commission presumed the facts alleged in the complaint to be true.

The Commission has determined that the appropriate form of relief in this investigation is a limited exclusion order prohibiting the unlicensed entry of certain caskets that are manufactured abroad by or on behalf of, or imported by or on behalf of, respondent Aguilares by reason of infringement of claims 1, 13, 27, and 44-53 U.S. Patent No. 5,611,124; claims 1, 6, 8, 9, 16, 17, 19, and 21 of U.S. Patent No. 5,727,291; claims 1 and 2 of U.S. Patent No. 6,836,936; claims 1, 2, 5-8, 11, and 12 of U.S. Patent No. 6,976,294; and claims 1, 2, 4, and 5 of U.S. Patent No. 7,340,810. The Commission further determined that the public interest factors enumerated in section 337(g)(1) (19 U.S.C. 1337(g)(1)) do not preclude issuance of the limited exclusion order. Finally, the Commission determined that the bond for importation during the period of Presidential review shall be in the amount of 100 percent of the entered value of the imported subject articles. The Commission's order was delivered to the President and the United States Trade Representative on the day of its issuance.

The Commission has terminated this investigation. The authority for the Commission's determination is contained in section 337 of the Tariff Act of 1930, as amended (19 U.S.C. 1337), and in sections 210.16(c) and 210.41 of the Commission's Rules of Practice and Procedure (19 CFR 210.16(c) and 210.41).

By order of the Commission.
Issued: December 13, 2010.
Marilyn R. Abbott,
Secretary to the Commission.

[FR Doc. 2010-31647 Filed 12-15-10; 8:45 am]

BILLING CODE P